DEPARTMENT OF HEALTH AND HUMAN SERVICES

Health Resources and Services Administration

Agency Information Collection Activities: Proposed Collection: Public Comment Request Information Collection Request Title: Health Professions Student Loan (HPSL) Program and Nursing Student Loan (NSL) Program Administrative Requirements (Regulations and Policy). OMB No. 0915-0047—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 29, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Health Professions Student Loan (HPSL) Program and Nursing Student Loan (NSL) Program Administrative Requirements (Regulations and Policy). OMB No. 0915-0047—Revision.

Abstract: The Health Professions Student Loan (HPSL) Program, as authorized by Public Health Service (PHS) Act sections 721-722 and 725-735, provides long-term, low-interest loans to students attending schools of medicine, osteopathic medicine, dentistry, veterinary medicine, optometry, podiatric medicine, and pharmacy. The Nursing Student Loan (NSL) Program, as authorized by PHS Act sections 835-842, provides long-term, low-interest loans to students who attend eligible schools of nursing in programs leading to a diploma, an associate degree, a baccalaureate degree, or graduate degree in nursing. It also contains a number of recordkeeping and reporting requirements for academic institutions and loan applicants. The applicable regulations for these programs under 42 CFR part 57 implement and detail the various statutory requirements (see chart below).

In an effort to consolidate information collection requests and achieve greater programmatic efficiency, HRSA is incorporating the Deferment-HRSA Form 519 and AOR-HRSA Form 501 (OMB No. 0915-0044) into this information collection request. As a result, the OMB No. 0915-0044 package will be discontinued.

Need and Proposed Use of the Information: Participating HPSL and NSL schools are responsible for determining eligibility of applicants, making loans, and collecting monies owed by borrowers on their outstanding loans. The Deferment Form (Deferment-HRSA Form 519), formerly incorporated under OMB No. 0915-0044, provides the schools with documentation of a borrower's deferment status, as detailed for the HPSL program under 42 CFR part 57.210 and for NSL under 42 CFR part 57.310. The Annual Operating Report (AOR-HRSA Form 501), formerly incorporated under OMB No. 0915-0044, provides the Department of Health and Human Services (HHS) with information from participating schools (including schools that are no longer disbursing loans but are required to report and maintain program records, student records, and repayment records until all student loans are repaid in full and all monies due to the Federal Government are returned) relating to HPSL and NSL program operations and financial activities. Moreover, the HPSL and NSL program requirements are essential for assuring that borrowers are aware of their rights and responsibilities, academic institutions have accurate records of the history and status of each loan account in order to pursue aggressive collection efforts to reduce default rates, and that academic institutions maintain adequate records for audit and assessment purposes to help HHS safeguard federal funds made through the Federal Capital Contribution (FCC). Academic institutions are free to use improved information technology to manage the information required by the regulations.

Likely Respondents: Financial Aid Directors working at institutions participating in the HPSL and/or NSL Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the tables below.

Total Estimated Annualized Burden Hours
Instrument (HPSL & NSL) | Number of respondents | Responses per respondent | Total responses | Hours per response | Total burden hours
Deferment—HRSA Form 519 | 3,125 | 1 | 3,125 | .5 | 1562.5
AOR-HRSA—Form 501 | 768 | 1 | 768 | 12 | 9,216
Total | 3,893 |  | 3,893 |  | 10,778.5
* The deferment form is only used by the schools if a student requests a deferment. The AOR form is filled out for all grantees with a loan program at their school.

Recordkeeping Requirements
Regulatory/section requirements | Number of recordkeepers | Hours per year | Total burden hours
HPSL Program:
57.206(b)(2), Documentation of Cost of Attendance | 432 | 1.05 | 454
57.208(a), Promissory Note | 432 | 1. 25 | 540
57.210(b)(1)(i), Documentation of Entrance Interview | 432 | 1. 25 | 540
57. 210(b)(1)(ii), Documentation of Exit Interview | * 475 | 0.37 | 176
57.215(a) & (d), Program Records | * 475 | 10 | 4,750
57.215(b), Student Records | * 475 | 10 | 4,750
57.215(c), Repayment Records | * 475 | 19.55 | 9,286
HPSL Subtotal | 475 |  | 20,496
NSL Program:
57.306(b)(2)(ii), Documentation of Cost of Attendance | 304 | 0.25 | 76
57.308(a), Promissory Note | 304 | 0.5 | 152
57.310(b)(1)(i), Documentation of Entrance Interview | 304 | 0.5 | 152
57. 310(b)(1)(ii), Documentation of Exit Interview | * 486 | 0.14 | 68
57.315(a)(1) & (a)(4), Program Records | * 486 | 5 | 2,430
57.315(a)(2), Student Records | * 486 | 1 | 486
57.215(b)(3), Repayment Records | * 486 | 2.51 | 1,220
NSL Subtotal | 486 |  | 4,584
* Includes active and closing schools. The HPSL and NSL programs are under two separate Titles VII and VII and CFDA numbers. The reporting requirements are items that are required of financial aid offices for administration of the loan programs at their school. HPSL data include active and closing Loans for Disadvantaged Students program schools.

Reporting Requirements
Regulatory/section requirements | Number of respondents | Responses per respondent | Total annual responses | Hours per response | Total burden hours
HPSL:
57.206(a)(2), Student Financial Aid Transcript | 4,600 | 1 | 4,600 | 0.25 | 1,150
57.208(c), Loan Information Disclosure | 325 | 299.5 | 97,338 | 0.63 | 61,323
57.210(b)(1)(i), Entrance Interview | 325 | 139.5 | 45,338 | 0.50 | 22,669
57.210(b)(1)(ii), Exit Interview | * 334 | 113.5 | 37,909 | 1.00 | 37,909
57.210(b)(1)(iii), Notification of Repayment | * 334 | 862.5 | 288,075 | 0.38 | 109,469
57.210(b)(1)(iv), Notification During Deferment | * 333 | 17 | 5,661 | 0.63 | 3,566
57.210(b)(1)(vi), Notification of Delinquent Accounts | 334 | 172.5 | 57,615 | 1.25 | 72,019
57.210(b)(1)(x), Credit Bureau Notification | 334 | 6 | 2,004 | 0.50 | 1,002
57.210(b)(4)(i), Write-off of Uncollectable Loans | 520 | 1 | 520 | 3 | 1560
57.211(a), Disability Cancellation | 3 | 1 | 3 | 1 | 3
57.215(a), Administrative Hearings record retention | 0 | 0 | 0 | 0 | 0
57.215(a)(2), Administrative Hearings reporting requirements | 0 | 0 | 0 | 0 | 0
HPSL Subtotal |  |  |  |  | 310,670
NSL:
57.306(a)(2), Student Financial Aid Transcript | 4,100 | 1 | 4,100 | 0.25 | 1,025
57.310(b)(1)(i), Entrance Interview | 282 | 17.5 | 4,935 | 0.42 | 2,073
57.310(b)(1)(ii), Exit Interview | 348 | 9 | 3,132 | 0.42 | 1,315
57.310(b)(1)(iii), Notification of Repayment | 348 | 9 | 3,132 | 0.27 | 846
57.310(b)(1)(iv), Notification During Deferment | 348 | 1.5 | 522 | 0.29 | 151
57.310(b)(1)(vi), Notification of Delinquent Accounts | 348 | 42.5 | 14,790 | 0.04 | 592
57.310(b)(1)(x), Credit Bureau Notification | 348 | 709 | 246,732 | 0.006 | 1,480
57.310(b)(4)(i), Write-off of Uncollectable Loans | 23 | 1 | 23 | 3 | 69
57.311(a), Disability Cancellation | 16 | 1 | 16 | 1 | 16
57.315(a)(1)(ii), Administrative Hearings | 0 | 0 | 0 | 0 | 0
57.316(a), Administrative Hearings | 0 | 0 | 0 | 0 | 0
NSL Subtotal |  |  |  |  | 7,567

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2017-25750 Filed 11-28-17; 8:45 am]

BILLING CODE 4165-15-P